DEPARTMENT OF DEFENSE

Department of the Army, Corps of Engineers

33 CFR Part 334

United States Army Restricted Area, New River, Radford Army Ammunitions Plant, Radford, VA

AGENCY: United States Army Corps of Engineers, DoD.

ACTION: Notice of proposed rulemaking and request for comments.

SUMMARY: The U. S. Army Corps of Engineers is proposing to establish a restricted area on the New River in the vicinity of the Radford Army Ammunitions Plant, Radford, Virginia. The restricted area will enable the Commanding Officer to enhance security efforts in response to potential terrorist activities. These regulations are necessary to safeguard the facility and are part of a comprehensive plan to protect the public, environment, and economic interests from sabotage and other subversive acts, accidents, or incidents of similar nature.

DATES: Written comments must be submitted on or before June 30, 2003.

ADDRESSES: U.S Army Corps of Engineers, ATTN: CECW-OR, 441 G Street, NW., Washington, DC 20314-1000.

FOR FURTHER INFORMATION CONTACT: Mr. Frank Torbett, Corps of Engineers Headquarters, Regulatory Branch, Washington, DC at (202) 761-4618, or Mr. Rick Henderson, Corps of Engineers, Norfolk District, Regulatory Branch, at (757) 441-7653.

SUPPLEMENTARY INFORMATION: Pursuant to its authorities in Section 7 of the Rivers and Harbors Act of 1917 (40 Stat 266; 33 U.S.C. 1) and Chapter XIX, of the Army Appropriations Act of 1919 (40 Stat 892; 33 U.S.C. 3) the Corps proposes to amend the restricted area regulations in 33 CFR part 334 by adding § 334.812 which would establish a restricted area in the New River, at the Radford Army Ammunitions Plant, Radford, Virginia. The public currently has unrestricted access to the facility. The Commanding Officer is seeking authorization from the Corps of Engineers to establish a restricted area in waters of the United States adjacent to the Ammunitions Plant in Radford, Virginia. The District Engineer's preliminary review indicates this request is not contrary to the public interest.

Procedural Requirements

a. Review under Executive Order 12866.This proposed rule is issued with respect to a military function of the Defense Department and the provisions of Executive Order 12866 do not apply.

b. Review under the Regulatory Flexibility Act.These proposed rules have been reviewed under the Regulatory Flexibility Act (Public Law 96-354) which requires the preparation of a regulatory flexibility analysis for any regulation that will have a significant economic impact on a substantial number of small entities (i.e., small businesses and small Governments). The Corps expects that the economic impact of the establishment of this restricted area would have practically no impact on the public, no anticipated navigational hazard or interference with existing waterway traffic and accordingly, certifies that this proposal if adopted, will have no significant economic impact on small entities.

c. Review under the National Environmental Policy Act.An environmental assessment has been prepared for this action. The Norfolk District has concluded, based on the minor nature of the proposed restricted area regulation, that this action, if adopted, will not have a significant impact to the quality of the human environment, and preparation of an environmental impact statement is not required. The environmental assessment may be reviewed at the District office listed at the end of FOR FURTHER INFORMATION CONTACT, above.

d. Unfunded Mandates Act.This proposed rule does not impose an enforceable duty among the private sector and, therefore, is not a Federal private sector mandate and is not subject to the requirements of Section 202 or 205 of the Unfunded Mandates Act. We have also found under Section 203 of the Act, that small Governments will not be significantly and uniquely affected by this rulemaking.

List of Subjects in 33 CFR Part 334

Danger zones, Marine safety, Navigation (water), Restricted areas, Waterways.

For the reasons set out in the preamble, the Corps proposes to amend 33 CFR part 334, as follows:

PART 334—DANGER ZONE AND RESTRICTED AREA REGULATIONS

1. The authority citation for part 334 continues to read as follows:

Authority: 40 Stat. 266 (33 U.S.C. 1) and 40 Stat. 892 (33 U.S.C. 3).

2. Section 334.812 would be added to read as follows:

§ 334. 812 New River, Radford Army Ammunitions Plant, Restricted Area, Virginia.

(a) The area. The waters within an area beginning at ordinary high water on the shore at latitude 37°08′59.4″ N, longitude 076°40′15.5″ W; thence along the shoreline to latitude 37°08′58.8″ N, longitude 076°40′06″ W; thence across the river to latitude 37°09′03.1″ N, longitude 076°39′59.4″ W; thence along the shoreline to latitude 37°09′06.9″ N, longitude 076°39′54.1″ W; thence across the river to the point of origin.

(b) The regulation. The public shall have unrestricted access and use of the waters adjacent to the Radford Ammunition Plant whenever the facility is in Force Protection Condition Normal Alpha, or Bravo. Whenever the facility is in Force Protection Condition Charlie, all vessels and persons that desire access to the waters of the New River adjacent to the Radford Ammunition plant must agree/submit to an inspection by security personnel to insure they do not pose a threat to the facility. No explosives, explosive devices, chemical or biological agents, handguns, rifles, shotguns, muzzle loaded guns, or other device/devices that would pose a risk to the facility or personnel assigned to the facility will be allowed in the waters designated by this regulation unless written permission is granted by the Commanding Officer, Radford or persons as he/she may delegate this authority to. Once a vessel and/or person has been cleared to enter this restricted area they will be allowed unrestricted use of the waters. Whenever the facility is in Force Protection Delta, the waters, designated in this regulation, will be closed to all traffic and use. The Commanding Officer may authorize exceptions to this regulation as conditions warrant.

(c) Enforcement. The regulation in this section, promulgated by the United States Army Corps of Engineers shall be enforced by the Commanding Officer, Radford Ammunitions Plant or persons or agencies as he/she may authorize including any Federal Agency, State, Local or County Law Enforcement agency, or Private Security Firm in the employment of the facility, so long as the entity undertaking to enforce this Restricted Area has the legal authority to do so under the appropriate Federal, State or Local laws.

Dated: April 18, 2003.
Lawrence A. Lang,
Acting Chief, Operations Division, Directorate of Civil Works.

[FR Doc. 03-13451 Filed 5-28-03; 8:45 am]

BILLING CODE 3710-84-P